DEPARTMENT OF JUSTICE

Antitrust Division

Notice Pursuant to the National Cooperative Research and Production Act of 1993—National Spectrum Consortium

Notice is hereby given that, on October 14, 2022, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Ampersand Solutions Group, Inc., Huntsville, AL; Pi Radio, Inc., Brooklyn, NY; BAE Systems Technology Solutions and Services, Inc., Rockville, MD; SOC LLC, Chantilly, VA; SGSD Partners LLC, Washington, DC; Macom Technology Solution, Inc., Lowell, MA; Telesto Group LLC, West Palm Beach, FL; Resonant Sciences LLC, Dayton, OH; Rebel Space Technologies, Inc., Long Beach, CA; Broadband Antenna Tracking Systems, Inc., Indianapolis, IN; STAR Dynamics Corp., Hilliard, OH; Fairwinds Technologies LLC, Annapolis, MD; and L3Harris Aeromet, Tulsa, OK, have been added as parties to this venture.

Also, Pinnacle Solutions, Inc., Huntsville, AL; Sertainty Corp., Nashville, TN; Spectrum Center Government Services LLC, McLean, VA; Ascension Engineering Group LLC, Colorado Springs, CO; Ciena Government Solutions, Inc., Hanover, MD; Everactive, Inc., Santa Clara, CA; Zin Solutions, Inc. dba Axiom Towers, Tulsa, OK; Bridge 12 Technologies, Inc., Framingham, MA; and Baker Street Scientific, Inc., Marietta, GA, have withdrawn as parties to this venture.

No other changes have been made in either the membership or planned activity of the group research project. Membership in this group research project remains open, and NSC intends to file additional written notifications disclosing all changes in membership.

On September 23, 2014, NSC filed its original notification pursuant to Section 6(a) of the Act. The Department of Justice published a notice in the Federal Register pursuant to Section 6(b) of the Act on November 4, 2014 (79 FR 65424).

The last notification was filed with the Department on July 8, 2022. A notice was published in the Federal Register pursuant to Section 6(b) of the Act on August 1, 2022 (87 FR 47008).

Catherine Reilly,
Counsel for Civil Operations, Antitrust Division.

[FR Doc. 2022-24274 Filed 11-7-22; 8:45 am]

BILLING CODE P